DEPARTMENT OF COMMERCE

International Trade Administration

[C-489-502]

Certain Welded Carbon Steel Standard Pipe from Turkey: Extension of Time Limit for Preliminary Results of Countervailing Duty New Shipper Review

AGENCY: Import Administration, International Trade Administration, Department of Commerce.

EFFECTIVE DATE: September 20, 2006.

FOR FURTHER INFORMATION CONTACT: Kristen Johnson, AD/CVD Operations, Office 3, Import Administration, International Trade Administration, U.S. Department of Commerce, 14th Street and Constitution Avenue NW., Washington, DC 20230; telephone: (202) 482-4793.

SUPPLEMENTARY INFORMATION:

Background Information

On April 26, 2006, the Department of Commerce (“the Department”) initiated a new shipper review relating to the countervailing duty order on certain welded carbon steel standard pipe from Turkey, for the period January 1, 2005, through December 31, 2005.¹ On May 2, 2006, the Department published the notice of initiation in the Federal Register. See Certain Welded Carbon Steel Standard Pipe from Turkey: Notice Initiation of Countervailing Duty New Shipper Review, 71 FR 25814 (May 2, 2006). The respondents in this review are Toscelik Profil ve Sac Endustrisi A.S. and Tosyali Dis Ticaret A.S. The preliminary results are currently due no later than October 23, 2006.

¹ See Memorandum to the File concerning Request for CVD New Shipper Review: Certain Welded Carbon Steel Standard Pipe from Turkey (April 26, 2006) (“Initiation Checklist”). A public version of the Initiation Checklist is available on the public record in the Department's Central Records Unit (room B-099).

Statutory Time Limits

Section 751(a)(2)(B)(iv) of the Tariff Act of 1930, as amended (“the Act”), requires the Department to make a preliminary determination within 180 days after the date on which the new shipper review was initiated. However, when the Department determines a case is extraordinarily complicated such that it cannot complete the review within this time period, section 751(a)(2)(B)(iv) of the Act and 19 CFR 351.214(i)(2) allow the Department to extend the time limit for the preliminary determination from 180 days to 300 days.

Extension of Time Limit for Preliminary Results

We determine that this case is extraordinarily complicated given the number of programs to be analyzed. Specifically, in this review, we are examining 13 different programs for the two respondents. Also, it is the Department's practice to normally conduct verifications for new shipper reviews. Therefore, in accordance with the statutory and regulatory authority cited above, we are extending the time period for issuing the preliminary results of this new shipper review to 300 days. As the new deadline falls on February 19, 2007, a federal holiday, the Department will issue the preliminary results on the next business day, February 20, 2007. The final results of this review continue to be due within 90 days after the date the preliminary results are issued.

This notice is issued and published in accordance with section 751(a) of the Act and 19 CFR 351.214.

Dated: September 14, 2006.
Stephen J. Claeys,
Deputy Assistant Secretary for Import Administration.

[FR Doc. 06-7796 Filed 9-19-06; 8:45 am]

BILLING CODE 3510-DS-P